DEPARTMENT OF JUSTICE

Notice of Lodging of Proposed Consent Decrees Under the Comprehensive Environmental Response, Compensation, and Liability Act

Notice is hereby given that on September 3, 2013, a proposed Consent Decree in United States v. Vermont Asbestos Group, Inc., Civil Action No. 2:13-cv-00238-wks, between the United States, State of Vermont, and Vermont Asbestos Group, Inc. was lodged with the United States District Court for the District of Vermont.

In the United States' action brought under Sections 106, 107, and 113(g)(2) of the Comprehensive Environmental Response, Compensation, and Liability Act of 1980, 42 U.S.C. 9606, 9607 and 9613(g)(2) (“CERCLA”), the United States seeks injunctive relief requiring the Vermont Asbestos Group (“Settling Defendant”) to perform the operation and maintenance of the erosion control structures constructed by the United States Environmental Protection Agency at the Vermont Asbestos Group Mine Superfund Site in Lowell and Eden, Vermont. The United States also seeks to recover costs incurred and to be incurred by the United States in response to releases or threatened releases of hazardous substances at or from the Site.

The settlement, based on Settling Defendant's limited “ability to pay,” requires Settling Defendant to undertake the operation and maintenance of the erosion control structures at the Site; pay the State of Vermont $5,000 per year for ten years; and stipulate to a judgment in favor of the United States in the amount of $3,360,082 for EPA's past cleanup costs and in favor of the State in the amount of $174,620 for the State's past cleanup costs. The Settling Defendant also stipulates to the entry of a judgment in favor of the State for State Future Response Costs estimated to be at least $28,458,399. These stipulated amounts are to be satisfied only through the recovery of insurance proceeds.

The publication of this notice opens a period for public comment on the Consent Decree. Comments should be addressed to the Assistant Attorney General, Environment and Natural Resources Division, and should refer to United States v. Vermont Asbestos Group, Inc. (D. Vt.) D.J Ref. No. 90-11-3-07425/3. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the Consent Decree may be examined and downloaded at this Justice Department Web site: http://www.usdoj.gov/enrd/Consent_Decrees.html. We will provide paper copies of the consent decree upon written request and payment of reproduction costs. Please mail your request and payment to: Consent Decree Library, U.S. DOJ—ENRD, P.O. Box 7611, Washington, DC 20044-7611.

Please enclose a check or money order for $10.25 (25 cents per page reproduction cost) payable to the United States Treasury.

Robert E. Maher, Jr.,
Assistant Section Chief, Environmental Enforcement Section, Environment and Natural Resources Division.

[FR Doc. 2013-21856 Filed 9-6-13; 8:45 am]

BILLING CODE 4410-15-P